AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration.

DATES: The meeting date is Tuesday, October 21st 2014, 8:30a.m. to 11:30a.m.

ADDRESSES: The meeting location is 1400 I Street Northwest, Suite #1000 (Main Conference Room), Washington, DC, 2005-2246.

FOR FURTHER INFORMATION CONTACT: Rabayah Akhter, 202-233-8811.

Authority: Public Law 96-533 (22 U.S.C. 290h).

Dated: October 8, 2014.
June Brown,
Associate General Counsel.

[FR Doc. 2014-24426 Filed 10-10-14; 8:45 am]

BILLING CODE 6117-01-P